DEPARTMENT OF THE INTERIOR

Fish and Wildlife Service

[FWS-R9-IA-2009-N194; 96300-1671-0000-P5]

Receipt of Applications for Permit

AGENCY: Fish and Wildlife Service, Interior.

ACTION: Notice of receipt of applications for permit.

SUMMARY: We, the U.S. Fish and Wildlife Service, invite the public to comment on the following applications for permits to conduct certain activities with endangered species and/or marine mammals. Both the Endangered Species Act and the Marine Mammal Protection Act require that we invite public comment on these permit applications.

DATES: Written data, comments or requests must be received by October 19, 2009].

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Submit your written data, comments, or requests for copies of the complete applications to the address shown in ADDRESSES.

Applicant: Gibbon Conservation Center, Santa Clarita, CA, PRT-226717

The applicant requests a permit to export one female captive-born northern white-cheeked gibbon (Nomascus leucogenys) to the Parc Zoologique et Botanique de Mulhouse, France for the purpose of enhancement of the species through captive breeding.

Applicant: Hollywood Animals, Los Angeles, CA, PRT-060470, PRT-060472, and PRT-060473

The applicant requests permits to re-export and re-import three captive-born leopards (Panthera pardus) to worldwide locations for the purpose of enhancement of the species through conservation education. The permit numbers and animals are: PRT-060470, Sheena; PRT-060472, Whoopi; and PRT-060473, Satchmo. This notification covers activities to be conducted by the applicant over a three-year period and the import of any potential progeny born while overseas.

Applicant: Louisiana State University - LSU Museum of Natural Science, Baton Rouge, LA, PRT-003005

The applicant requests a permit to export and re-import non-living museum specimens of endangered and threatened species of animals previously accessioned into the applicant's collection for scientific research. This notification covers activities to be conducted by the applicant over a five-year period.

Applicant: Vance S. Johnson, North Myrtle Beach, SC, PRT-226642

The applicant requests a permit to import the sport-hunted trophy of one male bontebok (Damaliscus pygargus pygargus) culled from a captive herd maintained under the management program of the Republic of South Africa, for the purpose of enhancement of the survival of the species.

Marine Mammals

The public is invited to comment on the following application for a permit to conduct certain activities with marine mammals. The application was submitted to satisfy requirements of the Marine Mammal Protection Act of 1972, as amended (16 U.S.C. 1361 et seq.), and the regulations governing marine mammals (50 CFR Part 18). Submit your written data, comments, or requests for copies of the complete applications or requests for a public hearing on these applications to the address shown in ADDRESSES. If you request a hearing, give specific reasons why a hearing would be appropriate. The holding of such a hearing is at the discretion of the Director.

Applicant: U.S. Geological Survey, Anchorage, AK, PRT-801652

The applicant requests an amendment to their permit to increase the number of walruses (Odobenus rosmarus) that may be incidentally harassed by the already authorized activities for the purpose of scientific research. This notification covers activities to be conducted by the applicant over the remainder of their 5-year permit; we are considering amending the permit before the end of the public comment period because delaying the issuance of the permit would result in a loss of a unique research opportunity that is present at this time. We welcome and will consider all comments received regarding this request.

Concurrent with publishing this notice in the Federal Register, we are forwarding copies of the above applications to the Marine Mammal Commission and the Committee of Scientific Advisors for their review.

Dated: September 11, 2009.
Lisa J. Lierheimer,
Senior Permit Biologist, Branch of Permits, Division of Management Authority

[FR Doc. E9-22423 Filed 9-16-09; 8:45 am]

BILLING CODE 4310-55-S